DEPARTMENT OF COMMERCE

Foreign-Trade Zones Board

[B-47-2021]

Foreign-Trade Zone 252—Amarillo, Texas; Application for Reorganization Under Alternative Site Framework

An application has been submitted to the Foreign-Trade Zones (FTZ) Board by the City of Amarillo, Texas, grantee of FTZ 252, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 22, 2021.

FTZ 252 was approved by the FTZ Board on August 28, 2001 (Board Order 1183, 66 FR 48116-48117, September 18, 2001). The current zone includes the following sites: Site 1 (4,000 acres)—Amarillo International Airport and adjacent industrial park property, 10801 Airport Boulevard, Amarillo (Potter County); Site 2 (6 acres)—Panhandle Container Service Center, 1201 South Johnson Street, Amarillo; Site 3 (345 acres)—Hutchinson County Airport and Industrial Park, Borger; Site 4 (68 acres)—Ferguson Business Park, 650 Wilson Avenue, Dumas (Moore County); Site 5 (95 acres)—Industrial Park East, State Highway 60, Pampa (Gray County); Site 6 (213 acres)—PEDCO Park, Tying Avenue, Pampa; Site 7 (0.52 acres)—Donley site, ½ block from State Highway 87, Tulia (Swisher County); Site 8 (6 acres)—RCD site, adjacent to the Burlington Northern Santa Fe Railroad in the 1000 block of NW 6th Street, Tulia; Site 9 (10 acres)—Anderson site, State Highway 87, Tulia; and, Site 10 (3 acres)—Bivens site, Interstate 27 near the intersection of State Highway 86, Tulia.

The grantee's proposed service area under the ASF would be Armstrong, Oldham, Potter and Randall Counties, Texas, as described in the application. If approved, the grantee would be able to serve sites throughout the service area based on companies' needs for FTZ designation. The application indicates that the proposed service area is within and adjacent to the Amarillo Customs and Border Protection port of entry.

The applicant is requesting authority to reorganize its existing zone to include all of the existing sites as “magnet” sites. The ASF allows for the possible exemption of one magnet site from the “sunset” time limits that generally apply to sites under the ASF, and the applicant proposes that Site 1 be so exempted. No subzones/usage-driven sites are being requested at this time.

In accordance with the FTZ Board's regulations, Camille Evans and Christopher Wedderburn of the FTZ Staff are designated examiners to evaluate and analyze the facts and information presented in the application and case record and to report findings and recommendations to the FTZ Board.

Public comment is invited from interested parties. Submissions shall be addressed to the FTZ Board's Executive Secretary and sent to: ftz@trade.gov. The closing period for their receipt is August 30, 2021. Rebuttal comments in response to material submitted during the foregoing period may be submitted during the subsequent 15-day period to September 13, 2021.

A copy of the application will be available for public inspection in the “Reading Room” section of the FTZ Board's website, which is accessible via www.trade.gov/ftz. For further information, contact Camille Evans at Camille.Evans@trade.gov or Christopher Wedderburn at Chris.Wedderburn@trade.gov.

Dated: June 24, 2021.
Andrew McGilvray,
Executive Secretary.

[FR Doc. 2021-13832 Filed 6-28-21; 8:45 am]

BILLING CODE 3510-DS-P